ENVIRONMENTAL PROTECTION AGENCY

[EPA-HQ-OPPT-2011-0793; FRL-9327-4]

Decision on Waiver Application From 3M

AGENCY: Environmental Protection Agency (EPA).

ACTION: Notice.

SUMMARY: EPA conditionally granted the request from 3M for a waiver from testing tetrabromobisphenol A (CASRN 79-94-7). Regulations issued by EPA under section 4 of the Toxic Substances Control Act require that specified chemical substances be tested to determine if they are contaminated with halogenated dibenzo-p-dioxins (HDDs) or halogenated dibenzofurans (HDFs), and that results be reported to EPA. However, the regulations allow for exclusion and waiver from these requirements if an appropriate application is submitted to EPA and is approved. EPA received such a request for a waiver from these testing requirements from 3M.

DATES: EPA conditionally granted the 3M waiver on November 7, 2011.

FOR FURTHER INFORMATION CONTACT: For technical information contact: Rebecca Edelstein, National Program Chemicals Division, Office Pollution Prevention and Toxics (7404T), Environmental Protection Agency, 1200 Pennsylvania Ave. NW., Washington, DC 20460-0001; telephone number: (202) 564-8566; Email address: edelstein.rebecca@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitter of the request for waiver, 3M. If you have any questions regarding the applicability of this action to a particular entity, consult the technical person listed under FOR FURTHER INFORMATION CONTACT.

B. How can I get copies of this document and other related information?

EPA has established a docket for this action under docket identification (ID) number EPA-HQ-OPPT-2011-0793. All documents in the docket are listed in the docket index available at http://www.regulations.gov. Although listed in the index, some information is not publicly available, e.g., Confidential Business Information (CBI) or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave. NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

II. What action is the agency taking?

This notice announces the conditional granting of the request from 3M for a waiver from testing under 40 CFR 766.32(a)(2)(i) for tetrabromobisphenol A (CASRN 79-94-7). This waiver is conditional on 3M manufacturing (including importing) no more than 100 kilograms (kg) of the chemical substance per year, and on its doing so solely for research and development purposes.

III. What is the agency's authority for taking this action?

Under 40 CFR part 766, EPA requires testing of certain chemical substances to determine whether they may be contaminated with HDDs and HDFs. Under 40 CFR 766.32(a)(2)(i), a waiver may be granted if a responsible company official certifies that the chemical substance is produced only in quantities of 100 kg or less per year, and only for research and development purposes.

Under 40 CFR 766.32(b), a request for a waiver must be made 60 days before resumption of manufacture or importation of a chemical substance not being manufactured, imported, or processed as of June 5, 1987.

On September 14, 2011, EPA received a waiver request from 3M under 40 CFR 766.32(a)(2)(i). EPA announced receipt of the 3M waiver request and requested public comment in the Federal Register issue of September 27, 2011 (76 FR 59699)

(FRL-8890-4). The waiver request from 3M indicates that 3M intends to import less than 100 kg of tetrabromobisphenol A (CASRN 79-94-7), a chemical substance subject to testing under 40 CFR part 766, as part of an experimental formulation for research and development purposes. In a subsequent email message, dated September 27, 2011, 3M confirmed that the chemical substance will solely be used for research and development purposes.

EPA has determined that 3M qualifies for a research and development waiver from testing for tetrabromobisphenol A, conditional on 3M manufacturing (including importing) no more than 100 kg of the chemical substance per year, and on its doing so solely for research and development purposes.

EPA received an anonymous comment on 3M's waiver request stating that EPA should deny the waiver request; however, the commenter did not provide any rationale for why EPA should deny 3M's request.

List of Subjects

Environmental protection, Dibenzofurans, Dioxins, Hazardous substances, Tetrabromobisphenol A.

Dated: November 7, 2011.
Wendy C. Hamnett,
Director, Office of Pollution Prevention and Toxics.

[FR Doc. 2011-29301 Filed 11-10-11; 8:45 am]

BILLING CODE 6560-50-P